DEPARTMENT OF DEFENSE

Office of the Secretary of Defense

[DOD-2006-OS-0181]

Privacy Act of 1974; Systems of Records

AGENCY: Defense Finance and Accounting Service.

ACTION: Notice To Amend a System of Records.

SUMMARY: The Defense Finance and Accounting Service proposes to amend a system of records notice to its existing inventory of record systems subject to the Privacy Act of 1974 (5 U.S.C. 552a), as amended.

DATES: This action will be effective without further notice on September 18, 2006 unless comments are received that would result in a contrary determination.

ADDRESSES: Send comments to Ms. Linda Krabbenhoft, Freedom of Information Act/Privacy Act Program Manager, Defense Finance and Accounting Service, Denver, 6760 E. Irvington Place, Denver, CO 80279-8000.

FOR FURTHER INFORMATION CONTACT: Ms Linda Krabbenhoft at (303) 676-6045.

SUPPLEMENTARY INFORMATION: The Defense Finance and Accounting Service notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974 (5 U.S.C. 552a), as amended, which requires the submission of a new or altered system report.

Dated: August 14, 2006.
C.R. Choate,
Alternate OSD Federal Register Liaison Officer, Department of Defense.

T3020

System Name:

Living Disaster Recovery Planning System (LDRPS) (September 16, 1998, 63 FR 49553).

Changes:

* * * * *

System location:

Delete entry and replace with the following “Defense Finance and Accounting Service—Indianapolis, 8899 East 56th Street, Indianapolis, IN 46249-1460. (Physical location of database and server.)

Defense Finance and Accounting Service—Denver, 6760 East Irvington Place, Denver, CO 80279-8000.

Defense Finance and Accounting Service—Columbus, 3990 East Broad Street, Columbus, OH 43218-2317.

Defense Finance and Accounting Service—Cleveland, 1240 East 9th Street, Cleveland, OH 44199-2056.

Defense Finance and Accounting Service—Kansas City, 1500 East 95th Street, Kansas City, MO 64197-0001.”

* * * * *

Storage:

Delete entry and replace with “Records are stored on an Oracle database server at DFAS Indianapolis. Backup copies of the database are generated on a bi-monthly basis and distributed to the lead contingency planner at each DFAS location for use in the event of network unavailability during an emergency situation.”

* * * * *

System manager(s) and address:

Delete entry and replace with “Director of Contingency Planning Division, Defense Finance and Accounting Service—Indianapolis, 8899 East 56th Street, Indianapolis, IN 46249-1460.”

* * * * *

Contesting record procedures:

Delete “Office of Corporate Communications” and replace with “Corporate Communications and Legislative Liaison.”

* * * * *

T3020

System name:

Living Disaster Recovery Planning System (LDRPS).

System location:

Defense Finance and Accounting Service—Indianapolis, 8899 east 56th Street, Indianapolis, IN 46249-1460. (Physical location of database and server.)

Defense Finance and Accounting Service—Denver, 6760 East Irvington Place, Denver, CO 80279-8000.

Defense Finance and Accounting Service—Columbus, 3990 East Broad Street, Columbus, OH 43218-2317.

Defense Finance and Accounting Service—Cleveland, 1240 East 9th Street, Cleveland, OH 44199-2056.

Defense Finance and Accounting Service—Kansas City, 1500 East 95th Street, Kansas City, MO 64197-0001. Defense Finance and Accounting Service Headquarters, 1931 Jefferson Davis Highway, Arlington, VA 22240-5291.

Categories of individuals covered by the system:

All civilian and military individuals employed by the Defense Finance and Accounting Service; may also include civilian and military personnel of the Department of Defense and other Government agencies; may also include family members and other emergency points-of-contact; and contractor organizations.

Categories of records in the system:

Name, organization(s), assignment, office and home telephone number(s), grade/rank, military branch of service, position title, job series, disability information, and emergency point-of-contact name and telephone numbers.

Authority for maintenance of the system:

5 U.S.C. 301, Departmental Regulations; DFAS Regulation 3020.26, Corporate Contingency Plan; and E.O. 9397 (SSN).

Purpose(s):

To provide DFAS with a standardized automated contingency planning process. Personal information in the system is used to publish organizational telephone directories/locators, recall personnel to place of duty when required, for use in emergency notification, and to perform relevant functions/requirements/actions consistent with managerial functions during an emergency/disaster.

Routine uses of records maintained in the system, including categories of users and the purposes of such uses:

In addition to those disclosures generally permitted under 5 U.S.C. 552a(b) of the Privacy Act, these records or information contained therein may specifically be disclosed outside the DoD as a routine use permanent to 5 U.S.C. 552a(b)(3) as follows:

To Federal, state, or local governments or civic organizations during actual emergencies, exercises, or continuity of operation tests for the purpose of responding to emergency situations.

The DoD ‘Blanket Routine Users’ published at the beginning of the DFAS compilation of systems of records notices apply to this system.

Policies and practices for storing, retrieving, accessing, retaining, and disposing of records in the system:

Storage:

Records are stored on an Oracle database server at DFAS Indianapolis. Backup copies of the database are generated on a bi-monthly basis and distributed to the lead contingency planner at each DFAS location for use in the event of network unavailability during an emergency situation.

Retrievability:

Retrieved by individual's name, by organization, and by employee ID (which is a combination of individual's first and last name).

Safeguards:

As a minimum, records are accessed by person(s) responsible for servicing and authorized to use the record system in performance of their official duties who are properly screened and cleared for need-to-know. Access to the system is controlled through User IDs and passwords.

Retention and disposal:

Records are perpetual because individual records are deleted or added when the file is updated.

System manager(s) and address:

Director of Contingency Planning Division, Defense Finance and Accounting Service—Indianapolis, 8899 East 56th Street, Indianapolis, IN 46249-1460.

Notification procedure:

Individuals seeking to determine whether information about themselves is contained in this system of records should address written inquiries to the Privacy Act Officer at the appropriate DFAS location.

Individual should furnish full name, current DFAS organization element, current work address, and work telephone number.

Record access procedures:

Individuals seeking access to information about themselves in this system of records should address written inquiries to the Privacy Act Officer at the appropriate DFAS location.

Individual should furnish full name, current DFAS organization element, current work address, and work telephone number.

Contesting record procedures:

The DFAS rules for accessing records, for contesting contents and appealing initial agency determinations are published in DFAS Regulation 5400.11-R; 32 CFR part 324; or may be obtained from the Freedom of Information/Privacy Act Program Manager, Corporate Communications and Legislative Liaison, 6760 E. Irvington Place, Denver, CO 80279-8000.

Record source categories:

Information is obtained from record subject.

Exemptions claimed for the system:

None.

[FR Doc. 06-7009 Filed 8-17-06; 8:45 am]

BILLING CODE 5001-06-M